DEPARTMENT OF COMMERCE

National Oceanic and Atmospheric Administration

RIN 0648-XE349

Fisheries of the South Atlantic; South Atlantic Fishery Management Council; Public Meeting

AGENCY: National Marine Fisheries Service (NMFS), National Oceanic and Atmospheric Administration (NOAA), Commerce.

ACTION: Workshop to discuss design considerations for a potential citizen science program.

SUMMARY: The South Atlantic Fishery Management Council (Council) is considering developing a comprehensive citizen science program. This workshop will be convened to consider program goals and design, and gather input from constituents and potential regional partners and collaborators. See SUPPLEMENTARY INFORMATION.

DATES: The workshop will be held 1 p.m.-6 p.m., Tuesday, January 19, 2016; 8:30 a.m.-6 p.m., Wednesday, January 20, 2016; and 8:30 a.m.-5 p.m., Thursday, January 21, 2016.

ADDRESSES: The meeting will be held at the Town and Country Inn, 2008 Savannah Highway, Charleston, SC 29407; phone: (843) 571-1000.

Council address: South Atlantic Fishery Management Council, 4055 Faber Place Drive, Suite 201, N. Charleston, SC 29405.

FOR FURTHER INFORMATION CONTACT: John Carmichael, Science and Statistics Program Manager, 4055 Faber Place Drive, Suite 201, North Charleston, SC 29405; phone: (843) 571-4366 or toll free (866) SAFMC-10; fax: (843) 769-4520; email: john.carmichael@safmc.net.

SUPPLEMENTARY INFORMATION: Citizen science is a growing field in which trained members of the public collaborate and engage with scientists in the inquiry and discovery of new knowledge. Public participation in scientific research advances science, research, and policy and fosters an informed and engaged citizenship. The Council recognizes the desire of constituents to get involved and the need to have a well-designed program and accompanying sampling protocols to ensure that information collected through such efforts is useful. To meet this growing need, the Council intends to develop a comprehensive Citizen Science Program. The first step in this process is a workshop where interested citizens, fisheries managers and scientists, and citizen science practitioners will gather to develop recommendations for designing such a program. The product of this workshop will be a report to the Council addressing the workshop goals. The Council provided the following goals for the workshop:

1. Document and evaluate existing citizen science and cooperative research experiences;

2. Identify existing funding opportunities;

3. Develop objectives for the South Atlantic Citizen Science Program;

4. Develop a framework for achieving program objectives, considering:

(a) Research and monitoring activities appropriate for citizen science;

(b) Funded and unfunded opportunities and avenues to support citizen science;

(c) The full range of data needs;

(d) Potential web-based platforms;

(e) Outreach and education needs, short and long term; and

(f) Governance, including ongoing staff support, management, and oversight

5. Develop a prioritized list of citizen science project candidates, and identify 2-5 high priority projects that could be implemented within 1 year of the workshop.

Discussion topics for consideration at this workshop:

1. Introduction to citizen science.

2. Selected citizen science case studies.

3. Identifying potential projects for the South Atlantic.

4. Design requirements and attributes of successful projects.

5. Recommendations addressing workshop goals.

Special Accommodations

This meeting is accessible to people with disabilities. Requests for auxiliary aids should be directed to the SAFMC office (see ADDRESSES) at least 10 business days prior to the meeting.

Note: The times and sequence specified in this agenda are subject to change.

Authority: 16 U.S.C. 1801 et seq.

Dated: December 16, 2015.
Tracey L. Thompson,
Acting Deputy Director, Office of Sustainable Fisheries, National Marine Fisheries Service.

[FR Doc. 2015-31946 Filed 12-18-15; 8:45 am]

BILLING CODE 3510-22-P